DEPARTMENT OF COMMERCE

National Oceanic and Atmospheric Administration

[RTID 0648-XC758]

Marine Mammals and Endangered Species

AGENCY: National Marine Fisheries Service (NMFS), National Oceanic and Atmospheric Administration (NOAA), Commerce.

ACTION: Notice; issuance of permits, permit amendments, and permit modifications.

SUMMARY: Notice is hereby given that permits, permit amendments, and permit modifications have been issued to the following entities under the Marine Mammal Protection Act (MMPA) and the Endangered Species Act (ESA), as applicable.

ADDRESSES: The permits and related documents are available for review upon written request via email to NMFS.Pr1Comments@noaa.gov.

FOR FURTHER INFORMATION CONTACT: Shasta McClenahan, Ph.D., (Permit Nos. 26750 and 27029), Amy Hapeman (Permit Nos. 24334-01, 26725, and 26778), Erin Markin, Ph.D., (Permit No. 26727), and Malcolm Mohead (Permit No. 22671-03); at (301) 427-8401.

SUPPLEMENTARY INFORMATION: Notices were published in the Federal Register on the dates listed below that requests for a permit, permit amendment, or permit modification had been submitted by the below-named applicants. To locate the Federal Register notice that announced our receipt of the application and a complete description of the activities, go to www.federalregister.gov and search on the permit number provided in Table 1 below.

Table 1—Issued Permits, Permit Amendments, and Permit Modifications
Permit No. | RTID | Applicant | Previous Federal Register notice | Issuance date
22671-03 | 0648-XC548 | U.S. Geological Survey, Conte Anadromous Fish Research Lab, 1 Migratory Way, Turners Falls, MA 01376 (Responsible Party: Alexander Haro, Ph.D.) | 87 FR 68455, November 15, 2022 | January 9, 2023.
24334-01 | 0648-XC563 | Alaska Department of Fish and Game, P.O. Box 25526, Juneau, AK 99802 (Responsible Party: Lori Quakenbush) | 87 FR 71303, November 22, 2022 | January 25, 2023.
26725 | 0648-XC502 | Florian Graner, Ph.D., 4021 Beach Drive, Freeland, WA 98249 | 87 FR 65191, October 28, 2022 | January 19, 2023.
26727 | 0648-XC534 | Aaron Lynton, 986 Kupulau Drive, Kihei, HI 96853 | 87 FR 67677, November 9, 2022 | January 23, 2023.
26750 | 0648-XC550 | Burke Museum, University of Washington, Box 353010, Seattle, WA 98195 (Responsible Party: Gabriela Chavarria, Ph.D.) | 87 FR 68131, November 14, 2022 | January 10, 2023.
26778 | 0648-XC451 | Wildstar Films Ltd., Embassy House, Queens Avenue, Bristol, UK, BS8 1SB (Responsible Party: Jennie Hammond) | 87 FR 61574, October 12, 2022 | January 19, 2023
27029 | 0648-XC595 | Echo Pictures Ltd., c/o Offspring Films, 1st & 2nd floor, Dock House, Welsh Back, Bristol, UK, BS1 4SB (Responsible Party: Helen Sampson) | 87 FR 75042, December 7, 2022 | January 23, 2023.

In compliance with the National Environmental Policy Act of 1969 (42 U.S.C. 4321 et seq.), a final determination has been made that the activities proposed are categorically excluded from the requirement to prepare an environmental assessment or environmental impact statement.

As required by the ESA, as applicable, issuance of these permit was based on a finding that such permits: (1) were applied for in good faith; (2) will not operate to the disadvantage of such endangered species; and (3) are consistent with the purposes and policies set forth in Section 2 of the ESA.

Authority: The requested permits have been issued under the MMPA of 1972, as amended (16 U.S.C. 1361 et seq.), the regulations governing the taking and importing of marine mammals (50 CFR part 216), the ESA of 1973, as amended (16 U.S.C. 1531 et seq.), and the regulations governing the taking, importing, and exporting of endangered and threatened species (50 CFR parts 222-226), as applicable.

Dated: February 3, 2023.
Julia M. Harrison,
Chief, Permits and Conservation Division, Office of Protected Resources, National Marine Fisheries Service.

[FR Doc. 2023-02710 Filed 2-8-23; 8:45 am]

BILLING CODE 3510-22-P